NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: April 19, 2004, 9 a.m.—5:30 p.m. and April 20, 2004, 9 a.m.—3 p.m.

Places: Little Big Horn College in Crow Agency, Montana and Chief Dull Knife College in Lame Deer, Montana.

Type of Meeting: Open.

Contact Persons: Dr. Margaret E.M. Tolbert, Senior Advisor and Executive Liaison, CEOSE, Office of Integrative Activities, National Science Foundation, 4201 Wilson Boulevard, Arlington, VA 22230, Telephone (703) 292-8040.

Minutes: May be obtained from the Executive Liaison at the above address.

Purpose of Meeting: To provide advice and recommendations concerning broadening participation in science and engineering.

Agenda:

Monday, April 19, 2004

Welcome by President of Little Big Horn College

Response by the CEOSE Chair

Presentations:

Profile of Little Big Horn College

NSF Support of Little Big Horn College Programs

Science and Education Priorities and Needs

Partnerships

Other Relevant Topics

Tour of Little Big Horn College Campus

Discussion of Recommendations and Action Items Resulting from the Meeting

Tuesday, April 20, 2004

Welcome by President of Chief Dull Knife College

Response by the CEOSE Chair

Presentations:

Profile in Chief Dull Knife College

NSF Support of Chief Dull Knife College Programs

Science and Education Priorities and Needs

Partnerships

Other Relevant Topics

Tour of Chief Dull Knife College

Discussion of Recommendations and Action Items Resulting from the Meeting

Dated: March 25, 2004.
Susanne Bolton,
Committee Management Officer.

[FR Doc. 04-7073 Filed 3-29-04; 8:45 am]

BILLING CODE 7555-01-M